DEPARTMENT OF LABOR

Employment and Training Administration

[TA-W-64,643C; TA-W-64,643]

Chrysler LLC, Headquarters, Including On-Site Leased Workers From Aerotek, Ajilon, Argos, Bartech Group, CDI Information Services, Computer Consultants of America, Inc., Computer Engrg Services, Epitec Group, Inc., Gtech Professional Staffing, Inc., JDM Systems Consultants, Inc., Kelly Services, Inc., Preferred Solutions, Resource Technologies Corp, Spherion, Synova, and TAC Transportation, Auburn Hills, MI; Chrysler LLC, Chrysler Office Building, Including On-Site Leased Workers From Aerotek, Ajilon, Argos, Bartech Group, CDI Information Services, Computer Consultants of America, Inc., Computer Engrg Services, Epitec Group, Inc., Gtech Professional Staffing, Inc., JDM Systems Consultants, Inc., Kelly Services, Inc., Preferred Solutions, Resource Technologies Corp, Spherion, Synova, and TAC Transportation, Auburn Hills, MI; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on December 19, 2008, applicable to workers of Chrysler LLC, Headquarters, Auburn Hills, Michigan. The notice was published in the Federal Register on January 14, 2009 (74 FR 2136). The notice was amended on April 24, 2009 to include on-site leased workers. The notice was published in the Federal Register on May 18, 2009 (74 FR 23216).

At the request of the company official, the Department reviewed the certification for workers of the subject firm. The workers are engaged in activities related to the production of automotive vehicles and automotive vehicle parts. New information shows that the company official inadvertently failed to include workers at the Chrysler Office Building, an annex of the Headquarters at the Auburn Hills Complex. Information also shows that the Chrysler Office Building uses the same on-site leased workers as the Headquarters.

The Department has determined that the Chrysler Office Building workers were part of the same worker group as Chrysler LLC, Headquarters, and that the leased workers were sufficiently under the control of Chrysler LLC to be considered leased workers.

Based on these findings, the Department is amending this certification to include workers of the Chrysler Office Building and the on-site leased workers.

The amended notice applicable to TA-W-64,643 is hereby issued as follows:

All workers of Chrysler LLC, Headquarters, Auburn Hills, Michigan, including on-site leased workers from Aerotek, Ajilon, Argos, Bartech Group, CDI Information Services, Computer Consultants of America, Inc., Computer Engrg Services, Epitec Group, Inc., Gtech Professional Staffing, Inc., JDM Systems Consultants, Inc., Kelly Services, Inc., Preferred Solutions, Resource Technologies Corp, Spherion, Synova, Inc., and TAC Transportation (TA-W-64,643), and all workers of Chrysler LLC, Chrysler Office Building, Auburn Hills, Michigan, including on-site leased workers from Aerotek, Ajilon, Argos, Bartech Group, CDI Information Services, Computer Consultants of America, Inc., Computer Engrg Services, Epitec Group, Inc., Gtech Professional Staffing, Inc., JDM Systems Consultants, Inc., Kelly Services, Inc., Preferred Solutions, Resource Technologies Corp, Spherion, Synova, Inc., and TAC Transportation (TA-W-64,643C), who became totally or partially separated from employment on or after December 2, 2007 through December 19, 2010, are eligible to apply for adjustment assistance under Section 223 of the Trade Act of 1974, and are also eligible to apply for alternative trade adjustment assistance under Section 246 of the Trade Act of 1974.

Signed in Washington, DC, this 27th day of August, 2009.
Linda G. Poole,
Certifying Officer, Division of Trade Adjustment Assistance.

[FR Doc. E9-22764 Filed 9-21-09; 8:45 am]

BILLING CODE 4510-FN-P